DEPARTMENT OF COMMERCE

International Trade Administration

[A-570-954]

Certain Magnesia Carbon Bricks From the People's Republic of China: Notice of Correction to the Final Results of the 2010-2011 Antidumping Duty Administrative Review

AGENCY: Import Administration, International Trade Administration, Department of Commerce.

DATES: Effective Date: May 14, 2013.

FOR FURTHER INFORMATION CONTACT: Jerry Huang, AD/CVD Operations, Office 9, Import Administration, International Trade Administration, U.S. Department of Commerce, 14th Street and Constitution Avenue NW., Washington, DC 20230; telephone: (202) 482-4047.

SUPPLEMENTARY INFORMATION:

Correction

On April 15, 2013, the Department of Commerce (“Department”) published, in the Federal Register, the final results of the 2010-2011 administrative review of the antidumping duty order on certain magnesia carbon bricks from the People's Republic of China.¹ The period of review covered March 12, 2010, through August 31, 2011. The published Federal Register> notice contained a clerical error, in that it identified an incorrect exporter company name (i.e., Fengchi Imp. and Exp. Co., Ltd. of Haicheng City and Fengchi Refractories Co., of Haicheng City).² The correct exporter company name is Fengchi Imp. and Exp. Co., Ltd. of Haicheng City. Pursuant to section 751(h) of the Tariff Act of 1930, as amended (“the Act”), the Department shall correct any ministerial errors within a reasonable time after the determinations are issued under this section. A ministerial error is defined as an error “in addition, subtraction, or other arithmetic function, clerical errors resulting from inaccurate copying, duplication, or the like, and any other type of unintentional error.” This notice serves to correct the incorrect exporter company name listed in the Final Results.

¹ See Certain Magnesia Carbon Bricks from the People's Republic of China: Final Results and Final Partial Rescission of Antidumping Duty Administrative Review; 2010-2011, 78 FR 22230 (April 15, 2013) (“Final Results”).

² See id. at 22231.

This correction is published in accordance with sections 751(h) and 777(i) of the Act.

Dated: May 7, 2013.
Paul Piquado,
Assistant Secretary for Import Administration.

[FR Doc. 2013-11321 Filed 5-13-13; 8:45 am]

BILLING CODE 3510-DS-P